NUCLEAR REGULATORY COMMISSION

[NRC-2022-0001]

Sunshine Act Meetings

TIME AND DATE: Weeks of March 14, 21, 28, April 4, 11, 18, 2022. All listed meeting times are local to the meeting location.

PLACE: Hilton Garden Inn, 1530 W Maloney Ave, Gallup, New Mexico.

STATUS: Public.

Week of March 14, 2022

There are no meetings scheduled for the week of March 14, 2022.

Week of March 21, 2022—Tentative

There are no meetings scheduled for the week of March 21, 2022.

Week of March 28, 2022—Tentative

There are no meetings scheduled for the week of March 28, 2022.

Week of April 4, 2022—Tentative

There are no meetings scheduled for the week of April 4, 2022.

Week of April 11, 2022—Tentative

There are no meetings scheduled for the week of April 11, 2022.

Week of April 18, 2022—Tentative

Friday, April 22, 2022

6:00 p.m. Discussion of the Ten-Year Plan to Address Impacts of Uranium Contamination on the Navajo Nation and Lessons Learned from the Remediation of Former Uranium Mill Sites (Public Meeting); (Contact: Wesley Held: 301-287-3591)

Additional Information: The public is invited to attend the Commission's meeting live by webcast at the Web address— https://video.nrc.gov/. For those who would like to attend in person, note that all visitors are required to complete the NRC Self-Health Assessment and Certification of Vaccination forms. Visitors who certify that they are not fully vaccinated or decline to complete the certification must have proof of a negative Food and Drug Administration-approved PCR or Antigen (including rapid tests) COVID-19 test specimen collection from no later than the previous 3 days prior to entry to an NRC facility. The forms and additional information can be found here https://www.nrc.gov/about-nrc/covid-19/guidance-for-visitors-to-nrc-facilities.pdf.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Wendy.Moore@nrc.gov or Betty.Thweatt@nrc.gov.

The NRC is holding the meetings under the authority of the Government in the Sunshine Act, 5 U.S.C. 552b.

Dated: March 10, 2022.
For the Nuclear Regulatory Commission.
Wesley W. Held,
Policy Coordinator, Office of the Secretary.

[FR Doc. 2022-05455 Filed 3-10-22; 4:15 pm]

BILLING CODE 7590-01-P